DEPARTMENT OF HEALTH AND HUMAN SERVICES

Food and Drug Administration

Food Advisory Committee; Notice of Meeting

AGENCY: Food and Drug Administration, HHS.

ACTION: Notice.

This notice announces a forthcoming meeting of a public advisory committee of the Food and Drug Administration (FDA). The meeting will be open to the public.

Name of Committee: Food Advisory Committee.

General Function of the Committee: To provide advice and recommendations to the agency on FDA's regulatory issues.

Date and Time: The meeting will be held on Monday, February 24, 2003, from 8:30 a.m. to 5 p.m., and Tuesday, February 25, 2003, from 8:30 a.m. to 5 p.m.

Location: Sheraton College Park Hotel, Salons A, B, and C, 4095 Powder Mill Rd., Beltsville, MD 20705, 301-937-4422.

Contact Person: Sylvia M. Smith, Center for Food Safety and Applied Nutrition (HFS-006), Food and Drug Administration, 5100 Paint Branch Pkwy., College Park, MD 20740, 301-436-2397, or FDA Advisory Committee Information Line, 1-800-741-8138 (301-443-0572 in the Washington, DC area), code 10564. Please call the Information Line for up-to-date information on this meeting.

Agenda: On February 24 and 25, 2003, the committee will meet to discuss FDA's action plan for addressing the issue of acrylamide in food and to discuss the findings and recommendations from the Contaminants and Natural Toxicants Subcommittee of the Food Advisory Committee.

Procedure: Interested persons may present data, information, or views, orally or in writing, on issues pending before the committee. Written submissions may be made to the contact person by February 10, 2003. Oral presentations from the public will be scheduled between approximately 4 p.m. and 5 p.m. on February 24, 2003. Time allotted for each presentation may be limited. Those desiring to make formal oral presentations should notify the contact person on or before February 10, 2003, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Sylvia Smith at least 7 days in advance of the meeting.

Notice of this meeting is given under the Federal Advisory Committee Act (5 U.S.C. app. 2).

Dated: January 24, 2003.
William K. Hubbard,
Associate Commissioner for Policy and Planning.

[FR Doc. 03-2457 Filed 1-31-03; 8:45 am]

BILLING CODE 4160-01-S